DEPARTMENT OF COMMERCE

National Oceanic and Atmospheric Administration

[r 082803A]

Endangered Species; File No. 1446

AGENCY: National Marine Fisheries Service (NMFS), National Oceanic and Atmospheric Administration (NOAA), Commerce.

ACTION: Receipt of application.

SUMMARY: Notice is hereby given that North Carolina Division of Marine Fisheries (Mr. Blake Price, Principal Investigator), P.O. Box 769, Morehead City, North Carolina 28557, has applied in due form for a permit to take threatened and endangered sea turtles for purposes of scientific research.

DATES: Written or telefaxed comments must be received on or before October 3, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Carrie Hubard or Sarah Wilkin, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to test two types of large mesh gillnets to ascertain which type of net will better reduce sea turtle interactions while maintaining targeted fish catch rates. The control net will be constructed of 6.5 inch monofilament webbing with a twine diameter of 0.57mm, 25 meshes deep. The low profile net will be constructed of 6.5 inch monofilament webbing with a twine diameter of 0.57 mm, eight meshes deep. Nets will be set at dusk and retrieved in the early morning. Captured sea turtles will be examined for any possible injuries and held for approximately two hours to ensure they are healthy before being transported away from the fishing area and released. Turtles will be identified to species, measured, photographed, and flipper and PIT tagged. Any comatose or debilitated turtles will be transported to a rehabilitation center. During the life of the permit, the applicant requests authorization to capture 21 animals, representing a combination of Kemp's ridley (Lepidochelys kempii), loggerhead (Caretta caretta) and green (Chelonia mydas) sea turtles. An additional 2 hawksbill (Eretmochelys imbricata) and 2 leatherback (Dermochelys coriacea) turtles may also be captured. Of the captured turtles, 9 of the Kemp's/loggerhead/green turtle aggregate, 1 hawksbill, and 1 leatherback may be mortalities. Research will be conducted in Pamlico Sound, North Carolina and the permit would expire in December 2004.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile to (301)713-0376, provided the facsimile is confirmed by hard copy submitted by mail and postmarked no later than the closing date of the comment period. Please note that comments will not be accepted by e-mail or by other electronic media.

Dated: August 28, 2003.
Stephen L. Leathery,
Chief, Permits, Conservation and Education Division, Office of Protected Resources, National Marine Fisheries Service.

[FR Doc. 03-22457 Filed 9-2-03; 8:45 am]

BILLING CODE 3510-22-S